DEPARTMENT OF JUSTICE

Notice of Lodging of Proposed Consent Decree Under the Comprehensive Environmental Response, Compensation and Liability Act

On September 29, 2020, the Department of Justice lodged a proposed Consent Decree with the United States District Court for the District of Colorado in the lawsuit entitled United States and the State of Colorado v. TCI Pacific Communications, LLC, Civil Action No. 1:20-cv-02939-KLM.

The proposed Consent Decree would resolve claims the United States and State of Colorado have brought pursuant to Sections 106, 107(a) and 113(g)(2) of the Comprehensive Environmental Response, Compensation, and Liability Act of 1980, as amended (“CERCLA”), 42 U.S.C. 9606, 9607(a) and 9613(g)(2), against TCI Pacific Communications, LLC (“TCI”) related to Operable Unit 1 (“OU1”) of the Eagle Mine Superfund Site (“Site”) located approximately five miles south of Minturn, Colorado.

The Consent Decree requires TCI to meet water treatment standards for arsenic and other metals at the Site's water treatment plant, collect and treat contaminated groundwater from defined areas, obtain institutional controls to restrict activities that would interfere with the remedy, conduct defined operation and maintenance activities, and pay future EPA response costs.

The Consent Decree provides TCI and certain related persons covenants not to sue relating to the OU1 under Sections 106 and 107 of CERCLA, 42 U.S.C. 9606 and 9607.

The publication of this notice opens a period for public comment on the Consent Decree. Comments should be addressed to the Assistant Attorney General, Environment and Natural Resources Division, and should refer to United States and the State of Colorado v. TCI Pacific Communications, LLC, D.J. Ref. No. 90-11-3-1044/7. All comments must be submitted no later than thirty (30) days after the publication date of this notice. Comments may be submitted either by email or by mail:

To submit comments: | Send them to:
By email | pubcomment-ees.enrd@usdoj.gov
By mail | Assistant Attorney General, U.S. DOJ—ENRD, P.O. Box 7611, Washington, DC 20044-7611

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $27.25 (25 cents per page reproduction cost) payable to the United States Treasury. For a paper copy without the exhibits and signature pages, the cost is $10.75.

Jeffrey Sands,
Assistant Section Chief, Environmental Enforcement Section, Environment and Natural Resources Division.

[FR Doc. 2020-21967 Filed 10-2-20; 8:45 am]

BILLING CODE 4410-15-P